NATIONAL AERONAUTICS AND SPACE ADMINISTRATION

[Notice: (18-005)]

NASA Aerospace Safety Advisory Panel; Meeting

AGENCY: National Aeronautics and Space Administration.

ACTION: Notice of meeting.

SUMMARY: In accordance with the Federal Advisory Committee Act, as amended, the National Aeronautics and Space Administration announces a forthcoming meeting of the Aerospace Safety Advisory Panel.

DATES: Thursday, March 1, 2018, 9:30 a.m. to 10:45 a.m., Central Time.

ADDRESSES: NASA Marshall Space Flight Center, Building 4220, Room 1103, Huntsville, Alabama 35812.

FOR FURTHER INFORMATION CONTACT: Ms. Evette Whatley, Aerospace Safety Advisory Panel Administrative Officer, NASA Headquarters, Washington, DC 20546, (202) 358-4733, or email at evette.whatley@nasa.gov.

SUPPLEMENTARY INFORMATION: The Aerospace Safety Advisory Panel (ASAP) will hold its First Quarterly Meeting for 2018. This discussion is pursuant to carrying out its statutory duties for which the Panel reviews, identifies, evaluates, and advises on those program activities, systems, procedures, and management activities that can contribute to program risk. Priority is given to those programs that involve the safety of human flight. The agenda will include:

• Updates on the Exploration Systems Development

• Updates on the Commercial Crew Program

• Updates on the International Space Station Program

The meeting will be open to the public up to the seating capacity of the room. Seating will be on a first-come, first-served basis. This meeting is also available telephonically. Any interested person may dial call the USA toll free conference call number (800) 857-7040; pass code 4167450 and then the # sign. Attendees will be required to sign a visitor's register and to comply with NASA Marshall Space Flight Center security requirements, including the presentation of a valid picture ID and a secondary form of ID, before receiving an access badge. All U.S. citizens desiring to attend the ASAP meeting at the Marshall Space Flight Center must provide their full name, company affiliation (if applicable), driver's license number and state, citizenship, social security number; place of birth, and date of birth to the Marshall Space Flight Center Protective Services and Export Control Office no later than close of business on February 26, 2018. All non-U.S. citizens must submit their name; current address; driver's license number and state (if applicable); citizenship; company affiliation (if applicable) to include address, telephone number, and title; place of birth; date of birth; U.S. visa information to include type, number, and expiration date; U.S. social security number (if applicable); Permanent Resident (green card holder) number and expiration date (if applicable); place and date of entry into the U.S.; and passport information to include country of issue, number, and expiration date to the Marshall Space Flight Center Protective Services and Export Control Office no later than close of business on February 8, 2018. If the above information is not received by the noted dates, attendees should expect a minimum delay of four (4) hours. All visitors to this meeting will be required to process in through the Redstone/Marshall Space Flight Center Joint Visitor Control Center located on Rideout Road, north of Gate 9, prior to entering Marshall Space Flight Center. Please provide the appropriate data, via fax at (256) 544-2101, noting at the top of the page “Public Admission to the ASAP Meeting at MSFC.” For security questions, please call Ms. Becky Hopson at (256) 544-4541. At the beginning of the meeting, members of the public may make a verbal presentation to the Panel on the subject of safety in NASA, not to exceed 5 minutes in length. To do so, members of the public must contact Ms. Evette Whatley at evette.whatley@nasa.gov or at (202) 358-4733 at least 48 hours in advance. Any member of the public is permitted to file a written statement with the Panel at the time of the meeting. Verbal presentations and written comments should be limited to the subject of safety in NASA. It is imperative that the meeting be held on this date to accommodate the scheduling priorities of the key participants.

Carol J. Hamilton,
Acting Advisory Committee Management Officer, National Aeronautics and Space Administration.

[FR Doc. 2018-02110 Filed 2-1-18; 8:45 am]

BILLING CODE 7510-13-P